FEDERAL COMMUNICATIONS COMMISSION

47 CFR Part 90

[WP Docket No. 07-100; FCC 13-52]

Private Land Mobile Radio Stations Below 800 MHz

AGENCY: Final rule; announcement of effective date.

SUMMARY: In this document, the Commission announces the approval of the Commission's revised rules in the Fifth Report and Order, WP Docket No. 07-100, FCC 13-52, to the extent it contained information collection requirements that required approval by the Office of Management and Budget (OMB). These requirements were approved on October 28, 2013. This notice is consistent with the Fifth Report and Order, which stated that the Commission would publish a document in the Federal Register announcing the effective date of those rules.

DATES: 47 CFR 90.187 and 47 CFR 90.425 published at 78 FR 28749, May 16, 2013, are effective November 26, 2013.

FOR FURTHER INFORMATION CONTACT: Scot Stone, Federal Communications Commission, Wireless Telecommunications Bureau, 445 12th St. SW., Washington, DC 20554 at (202) 418-0638.

SUPPLEMENTARY INFORMATION: This document announces that on, May 16, 2013, OMB approved, for a period of three years, the revised information collection requirements relating to the Amendment of part 90 of the Commission's rules, FCC 13-52, published at 78 FR 28749, May 16, 2013. The OMB control number 3060-0599. The Commission publishes this notice as an announcement of the effective date of the rules.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 28, 2013, for the information collection requirements contained in the modifications to the Commission's rules in 47 CFR part 90.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0599.

The foregoing notice is required by the Paperwork Reduction Act of 1995, Public Law 104-13, October 1, 1995, and 44 U.S.C. 3507.

The total annual reporting burdens and costs for the respondents are as follows:

OMB Control Number: 3060-0599.

OMB Approval Date: October 28, 2013.

OMB Expiration Date: October 31, 2016.

Title: Section 90.187, Trunking in the Bands Between 150 and 512 MHz; and Sections 90.425 and 90.647, Station Identification.

Form Number: N/A.

Respondents: Business or other for-profit entities and state, local or tribal government.

Number of Respondents: 6,679 respondents; 6,679 responses.

Estimated Time per Response: .25 hours to 3 hours.

Frequency of Response: On occasion reporting requirement.

Obligation to Respond: Required to obtain or retain benefits. Statutory authority for this information collection is contained in 47 U.S.C. 154(i), 309(j) and 332 of the Communications Act of 1934, as amended.

Total Annual Burden: 8,231 hours.

Total Annual Cost: None.

Privacy Impact Assessment: No impact(s).

Nature and Extent of Confidentiality: There is no need for confidentiality with this collection of information.

Needs and Uses: On April 18 2013, the Commission in a Fifth Report and Order, FCC 13-52, adopted changes to 47 CFR 90.425 of the Commission's rules to allow Private Land Mobile Radio (PLMR) licensees in the bands between 150 and 512 MHz that are licensed on an exclusive basis to transmit station identification information in digital format, on the condition that the licensee will provide the Commission with information sufficient to decode the digital transmission to ascertain the call sign transmitted. However, this gives a new group of licensee stations (PLMRs) an option regarding the method of transmission of required call sign information; it modifies the existing burden, and slightly increase the in-house cost burden—specifically the cost associated with providing the Commission sufficient information to decode the transmission—unless they choose the digital transmission option. Finally, the other part of this revision is adding one additional rule section which is 90.187 to this existing information collection.

Federal Communications Commission.
Marlene H. Dortch,
Secretary, Office of the Secretary, Office of Managing Director.

[FR Doc. 2013-28320 Filed 11-25-13; 8:45 am]

BILLING CODE 6712-01-P